SECURITIES AND EXCHANGE COMMISSION

Sunshine Act Meeting; Additional Item

FEDERAL REGISTER CITATION OF PREVIOUS ANNOUNCEMENT: 81 FR 26600, May 3, 2016.

PREVIOUSLY ANNOUNCED TIME AND DATE OF THE MEETING: Thursday, May 5, 2016 at 2 p.m.

CHANGES IN THE MEETING: The following matter will also be considered during the 2 p.m. closed meeting scheduled for Thursday, May 5, 2016:

Adjudicatory matter

CONTACT PERSON FOR MORE INFORMATION: For further information and to ascertain what, if any, matters have been added, deleted or postponed, please contact Brent J. Fields, Secretary, Office of the Secretary at (202) 551-5400.

Dated: April 29, 2016.
Brent J. Fields,
Secretary.

[FR Doc. 2016-10474 Filed 5-3-16; 11:15 am]

BILLING CODE 8011-01-P